NATIONAL SCIENCE FOUNDATION

Proposal Review Panel for International Science and Engineering; Notice of Meeting

In accordance with the Federal Advisory Committee Act (Pub. L. 92-463, as amended), the National Science Foundation (NSF) announces the following meeting:

Name and Committee Code: Proposal Review Panel for International Science and Engineering—PIRE “Taming Water in Ethiopia: An Interdisciplinary Approach to Improve Human Security in a Water-Dependent Emerging Region” Site Visit (#10749).

Date and Time:

April 2, 2018; 8:00 a.m.-9:30 p.m.

April 3, 2018; 8:00 a.m.-1:30 p.m.

Place: University of Connecticut—Storrs, Department of Civil and Environmental Engineering, Castleman Building, 161 Glenbrook Road, Storrs, CT 06269.

Type of Meeting: Part Open.

Contact Person: Charles Estabrook, PIRE Program Manager, National Science Foundation, 2415 Eisenhower Avenue, Alexandria, Virginia 22314; Telephone 703-292-7222.

Purpose of Meeting: NSF site visit to conduct a review during year 2 of the five-year award period. To conduct an in depth evaluation of performance, to assess progress towards goals, and to provide recommendations.

Agenda: See attached.

Reason for Late Notice: Due to unforeseen scheduling complications and the necessity to proceed with the review of proposals.

Reason for Closing: Topics to be discussed and evaluated during closed portions of the site review will include information of a proprietary or confidential nature, including technical information; and information on personnel. These matters are exempt under 5 U.S.C. 552b(c), (4) and (6) of the Government in the Sunshine Act.

Dated: March 12, 2018.
Crystal Robinson,
Committee Management Officer.

PIRE Site Visit Agenda—Anagnostou UCONN

Day 1 Monday, April 2, 2018

8:00 a.m.-10 a.m. Introductions (OPEN) PIRE Rationale and Goals Administration, Management, and Budget Plans Review of Responses to Issues by Past Reviewers

10:00 a.m.-10:20 a.m. NSF Executive Session/Break (CLOSED)

10:20 a.m.-Noon Research Facilities and Physical Infrastructure

Noon-12:30 p.m. NSF Executive Session (CLOSED)

12:30 p.m.-1:30 p.m. Lunch—Discussion with Students (OPEN)

1:30 p.m.-3:00 p.m. Integrating Research and Education Developing Human Resources Integrating Diversity

3:00 p.m.-3:30 p.m. NSF Executive Session/Break (CLOSED)

3:30 p.m.-4:15 p.m. Partnerships

4:15 p.m.-5:15 p.m. Wrap up

5:15 p.m.-6:15 p.m. Executive Session/Break-Develop issues for clarification (CLOSED)

6:15 p.m.-6:30 p.m. Critical Feedback Provided to PI

6:30 p.m.-9:30 p.m. NSF Executive Session/Working Dinner (CLOSED) Committee organizes on its own

Day 2 Tuesday, April 3, 2018

8:00 a.m.-9:00 a.m. Institutional Support (Administrators and PI/Co-PIs) (CLOSED)

9:00 a.m.-10:00 a.m. Summary/Proposing Team Response to Critical Feedback (CLOSED)

10:00 a.m.-1:00 p.m. Site Review Team Prepares Site Visit Report (CLOSED) (Working Lunch Provided)

1:00 p.m.-1:30 p.m. Presentation of Site Visit Report to Principal Investigator (CLOSED)

[FR Doc. 2018-05275 Filed 3-14-18; 8:45 am]

BILLING CODE 7555-01-P